DEPARTMENT OF ENERGY

Federal Energy Regulatory Commission

[Docket No. RP03-7-000]

Natural Gas Pipeline Company of America; Notice of Technical Conference

November 20, 2002.

In the Commission's order issued on October 30, 2002,¹ the Commission directed that a technical conference be held to address issues raised by the filing.

¹ Natural Gas Pipeline Company of America, 101 FERC ¶ 61,095 (2002).

Take notice that the technical conference will be held on Thursday, December 12, 2002, at 10:30 am, in a room to be designated at the offices of the Federal Energy Regulatory Commission, 888 First Street, NE., Washington, DC 20426.

All interested parties and Staff are permitted to attend.

Linwood A. Watson, Jr.,
Deputy Secretary.

[FR Doc. 02-30005 Filed 11-25-02; 8:45 am]

BILLING CODE 6717-01-P